FEDERAL MARITIME COMMISSION

[Petition No. P3-03]

Petition of United Parcel Service, Inc. for Exemption Pursuant to Section 16 of the Shipping Act of 1984 to Permit Negotiation, Entry and Performance of Service Contracts; Extension of Time

The Commission published notice of Petition No. P3-03 filed by United Parcel Service, Inc. (“UPS”), in the Federal Register on August 4, 2003 (68 FR 45820). That notice requested comments to the Petition by August 22, 2003. The World Shipping Counsel (“WSC”) has requested an extension of time until September 24, 2003, for all parties to file comments in reply to this Petition. WSC advises that it has been authorized by UPS's counsel to state that the Petitioner does not object to the requested extension. The Commission has determined to grant the request. Accordingly, comments are now due by September 24, 2003.

By the Commission.
Bryant L. VanBrakle,
Secretary.

[FR Doc. 03-21581 Filed 8-21-03; 8:45 am]

BILLING CODE 6730-01-P